DEPARTMENT OF JUSTICE

Bureau of Prisons

Notice of Intent To Prepare a Draft Environmental Impact Statement (DEIS) for Development of a Medium-Security Federal Correctional Institution in Pennsylvania

AGENCY: Bureau of Prisons, U.S. Department of Justice.

ACTION: Notice of intent to prepare a Draft Environmental Impact Statement (DEIS).

SUMMARY:

Proposed Action

The mission of the United States Department of Justice, Federal Bureau of Prisons is to protect society by confining offenders in the controlled environments of prison and community-based facilities that are safe, humane, cost-efficient, and appropriately secure, and that provide work and other self-improvement opportunities to assist offenders in becoming law-abiding citizens. The Bureau accomplishes its mission through the appropriate use of community correction, detention, and correctional facilities that are either: Federally-owned and operated; Federally-owned and non-Federally operated; and non-Federally owned and operated.

The Bureau is facing a period of unprecedented growth in its inmate population. Projections show the federal inmate population increasing from approximately 120,000 inmates to 205,000 inmates by 2007. As such, the demand for bedspace within the federal prison system will continue to grow at a significant rate. To accommodate a portion of the growing inmate population, the Bureau of Prisons has determined that an additional medium-security Federal Correctional Institution (FCI) is needed in its system. Therefore, the Bureau of Prisons is proposes to build and operate a medium-security federal correctional facility, with an adjacent minimum-security satellite camp, in Pennsylvania. The main medium-security facility would provide habitation for approximately 1,200 inmates, with an additional 150-300 inmates to be housed at the minimum-security satellite camp.

Several sites in Northumberland County, Pennsylvania have been offered to the Bureau for consideration in developing the medium-security FCI and satellite camp. The Bureau of Prisons has preliminarily evaluated these sites and determined that the prospective sites appear to be of sufficient size to provide space for housing, programs, administrative services and other support facilities associated with the correctional facility. The DEIS to be prepared by the Bureau will analyzed the potential impacts of correctional facility construction and operation at these sites.

The Process

In the process of evaluating the sites, several aspects will receive detailed examination including, but are not limited to: topography, geology/soils, hydrology, biological resources, utility services, transportation services, cultural resources, land uses, socio-economics, hazardous materials, air and noise quality, among others.

Alternatives

In developing the DEIS, the options of “no action” and “alternative sites” for the proposed facility will be fully and thoroughly examined.

Scoping Process

During the preparation of the DEIS, there will be opportunities for public involvement in order to determine the issues to be examined. A public Scoping Meeting will be held at 7 P.M., May 31, 2000 at the Northumberland County Career & Arts Center located at 2 East Arch Street, Shamokin, Pennsylvania. The meeting location, date, and time will be well publicized and has been arranged to allow for the public as well as interested agencies and organizations to attend. The meeting is being held to allow interested persons to formally express their views on the scope and significant issues to be studied as part of the DEIS process. The Scoping Meeting is being held to provide for timely public comments and understanding of federal plans and programs with possible environmental consequences as required by the National Environmental Policy Act of 1969, as amended, and the National Historic Preservation Act of 1966, as amended. In addition, public information meetings have been held in Northumberland County by representatives of the Bureau of Prisons with interested citizens, elected officials, and community leaders.

DEIS Preparation

Public notice will be given concerning the availability of the DEIS for public review and comment.

Addresses

Questions concerning the proposed action and the DEIS may be directed to: David J. Dorworth, Chief, Site Selection and Environmental Review Branch, Federal Bureau of Prisons, 320 First Street, NW., Washington, D.C. 20534, Telephone (202) 514-6470, Telefacsimile (202) 616-6024, E-Mail: siteselection@bop.gov.

Dated: May 5, 2000.
David J. Dorworth,
Chief, Site Selection and Environmental Review Branch.

[FR Doc. 00-11788 Filed 5-11-00; 8:45 am]

BILLING CODE 4410-05-P